DEPARTMENT OF ENERGY

Federal Energy Regulatory Commission

[Docket No. EG03-68-000, et al.]

Katahdin Transmission, LLC, et al.; Electric Rate and Corporate Filings

May 22, 2003.

The following filings have been made with the Commission. The filings are listed in ascending order within each docket classification.

1. Katahdin Transmission, LLC

[Docket No. EG03-68-000]

Take notice that on May 16, 2003, Katahdin Transmission, LLC (KT LLC) filed an Application for Determination of Exempt Wholesale Generator Status pursuant to part 365 of the Federal Energy Regulatory Commission's regulations.

KT LLC states that it is a Delaware limited liability company that will own and simultaneously lease to Great Lakes Hydro America, LLC (GLHA), a company with exempt wholesale generator status, certain interests in equipment that will comprise a discrete portion of a new 115 kV interconnection project, which will, operationally, become part of an existing “eligible facility” owned and operated by GLHA in Millinocket and East Millinocket, Maine.

Comment Date: June 12, 2003.

2. Entergy Services Inc.

[Docket No. ER98-4190-002]

Take notice that on May 19, 2003, Entergy Services, Inc. (ESI), on behalf of System Energy Resources, Inc., made an informational filing with the Federal Energy Regulatory Commission pursuant to section 205 of the Federal Power Act revising the authorized accelerated amortization under the Grand Gulf Accelerated Recovery Tariff—Mississippi (GGART-M) in accordance with the terms and conditions of Paragraph 4.B of GGART-M. ESI states that it is making this filing with the approval of the Mississippi Public Service Commission (the MPSC).

Comment Date: June 9, 2003.

3. Texas Electric Marketing, LLC

[Docket No. ER00-1780-002]

Take notice that on May 19, 2003, Texas Electric Marketing, LLC (TEM) submitted for filing with the Federal Energy Regulatory Commission its triennial updated market analysis in accordance with Appendix B of the Commission's May 18, 2000 Letter Order in Texas Electric Marketing, LLC, Docket Nos. ER00-1780-000 and ER00-1780-001, granting TEM authority to engage in market-based wholesale electric power sales transactions.

Comment Date: June 9, 2003.

4. Inland Power & Light Company

[Docket No. ER02-2001-000]

Take notice that on March 19, 2003, Inland Power & Light Company filed a Request for Waiver of Order No. 2001 Electric Quarterly Report Requirements.

Comment Date: June 12, 2003.

5. Carolina Power & Light Company Florida Power Corporation

[Docket No. ER03-540-004]

Take notice that on May 20, 2003, Carolina Power & Light Company and Florida Power Corporation, tendered for filing corrected redlined versions of the tariff sheets that it filed on May 15, 2003. Carolina Power & Light Company states that the May 15th filing implemented changes to the Companies' Open Access Transmission Tariffs in compliance with the Commission's Order of May 9, 2003 and the current filing revises only the redlined pages that were included in the May 15th filing.

Carolina Power & Light Company states that copies of the filing were served upon the public utility's jurisdictional customers, North Carolina Utilities Commission, the South Carolina Public Service Commission and the Florida Public Service Commission.

Comment Date: June 10, 2003.

6. Duke Energy Fayette, LLC

[Docket No. ER03-794-001]

Take notice that on May 20, 2003, Duke Energy Fayette, LLC (Duke Fayette) tendered for filing its amended tariff and supplemental supporting cost data for its Monthly Revenue Requirement (Fayette Tariff) under PJM Interconnection, L.L.C.”s (PJM) Schedule 2—Reactive Supply and Voltage Control from Generation Sources Service. Duke Fayette requests an effective date of the first day of the month immediately following the Commission's acceptance of this filing to correspond to PJM's billing cycle. Duke Fayette states that it has served copies of the filing on the Pennsylvania Public Utilities Commission, PJM and Allegheny Power.

Comment Date: June 2, 2003.

7. New York State Electric & Gas Corporation

[Docket No. ER03-857-000]

Take notice that on May 20, 2003, New York State Electric & Gas Corporation (NYSEG) tendered for filing with the Federal Energy Regulatory Commission an executed Interconnection Agreement between NYSEG and Bio-Energy Partners (Bio-Energy) that sets forth the terms and conditions governing the interconnection between Bio-Energy's generating facility in Monroe County, New York and NYSEG's transmission system.

NYSEG states that copies of this filing have been served upon Bio-Energy, the New York State Public Service Commission, and the New York Independent System Operator, Inc.

Comment Date: June 10, 2003.

8. Entergy Services, Inc.

[Docket No. ER03-861-000]

Take notice that on May 20, 2003, Entergy Services, Inc. (Entergy Services), acting as agent for Entergy Arkansas, Inc., Entergy Gulf States, Inc., Entergy Louisiana, Inc., Entergy Mississippi, Inc., and Entergy New Orleans, Inc. (collectively, the Entergy Operating Companies), tendered for filing its 2003 annual rate redetermination update (Update) in accordance with its Open Access Transmission Tariff. Entergy Services states that the Update redetermines the formula rate in accordance with the annual rate redetermination provisions of Appendix 1 to Attachment H and Appendix A to Schedule 7.

Entergy Services further states that copies of the Update have been served upon its transmission customers and its state and local regulatory commissions.

Comment Date: June 10, 2003.

9. American Electric Power Service Corporation

[Docket No. ER03-862-000]

Take notice that on May 20, 2003, the American Electric Power Service Corporation (AEPSC) tendered for filing an executed Letter Agreement between Indiana Michigan Power Company and Northern Indiana Public Service Company. AEPSC requests an effective date of May 19, 2003.

AEPSC states that a copy of the filing was served upon Northern Indiana Public Service Company and the Indiana Utility Regulatory Commission and Michigan Public Service Commission.

Comment Date: June 10, 2003.

10. Allegheny Energy Service Corporation, on behalf of Monongahela Power Company, The Potomac Edison Company, and West Penn Power Company (Allegheny Power)

[Docket No. ER03-863-000]

Take notice that on May 20, 2003, Allegheny Energy Service Corporation on behalf of Monongahela Power Company, The Potomac Edison Company, and West Penn Power Company (Allegheny Power), filed an Interconnection Agreement (Agreement) with Allegheny Energy Supply Company LLC as First Revised Service Agreement No. 341 under Allegheny Power's Open Access Transmission Tariff. The Allegheny Power request an effective date for First Revised Service Agreement No. 341 of July 1, 2002.

Allegheny Power states that copies of the filing have been provided to the customer, the Public Utilities Commission of Ohio, the Pennsylvania Public Utility Commission, the Maryland Public Service Commission, the Virginia State Corporation Commission, and the West Virginia Public Service Commission.

Comment Date: June 10, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-13515 Filed 5-29-03; 8:45 am]

BILLING CODE 6717-01-P